DEPARTMENT OF HEALTH AND HUMAN SERVICES

National Institutes of Health

Center for Scientific Review; Cancellation of Meeting

Notice is hereby given of the cancellation of the Pathobiochemistry Study Section, October 15, 2004, 8 a.m. to October 15, 2004, 5 p.m., Four Points by Sheraton Bethesda, 8400 Wisconsin Avenue, Bethesda, MD, 20814 which was published in the Federal Register on September 9, 2004, 69 FR 546994-54696.

The meeting is cancelled due to a lack of quorum.

Dated: September 22, 2004.
LaVerne Y. Stringfield,
Director, Office of Federal Advisory Committee Policy.

[FR Doc. 04-21713 Filed 9-27-04; 8:45 am]

BILLING CODE 4140-01-M